DEPARTMENT OF COMMERCE

National Oceanic and Atmospheric Administration

50 CFR Part 679

[Docket No. 010112013-1013-01; I.D. 090701B]

Fisheries of the Exclusive Economic Zone Off Alaska; Trawling in Steller Sea Lion Protection Areas in the Central Aleutian District of the Bering Sea and Aleutian Islands Management Area

AGENCY: National Marine Fisheries Service (NMFS), National Oceanic and Atmospheric Administration (NOAA), Commerce.

ACTION: Closure.

SUMMARY: NMFS is prohibiting trawling within Steller sea lion protection areas in the Central Aleutian District of the Bering Sea and Aleutian Islands management area (BSAI). This action is necessary to prevent exceeding the B season critical habitat limit of the 2001 total allowable catch (TAC) of Atka mackerel allocated to the Central Aleutian District.

DATES: Effective 1200 hrs, Alaska local time (A.l.t.), September 9, 2001, through 2400 hrs. A.l.t., December 31, 2001.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The 2001 B season apportionment of TAC for Atka mackerel in the Central Aleutian District is 15,540 metric tons (mt), of which no more than 7,148 mt may be harvested from Steller Sea lion protection areas (66 FR 7276, January 22, 2001 and 66 FR 37167, July 17, 2001). See §§ 679.20 (a)(8)(ii)(A) and 679.22 (a)(12)(iii)(B).

In accordance with § 679.22 (a)(12)(iii), the Administrator, Alaska Region, NMFS (Regional Administrator), has determined that the allowable harvest of Atka mackerel in the Steller Sea lion protection areas in the Central Aleutian District has been reached. Consequently, NMFS is prohibiting trawling in selected rookery and haul out sites, as defined at Table 21 of 50 CFR 679.22 and described at 50 CFR 679.22 (a)(12)(iii)(A) in the Central Aleutian District of the BSAI.

Classification

This action responds to the best available information recently obtained from the fishery. The Assistant Administrator for Fisheries, NOAA, finds that the need to immediately implement this action to prevent exceeding the amount of the 2001 Atka mackerel critical habitat limit in the Central Aleutian District of the BSAI constitutes good cause to waive the requirement to provide prior notice opportunity for public comment pursuant to the authority set forth at 5 U.S.C. 553 (b)(3)(B) and 50 CFR 679.20 (b)(3)(iii)(A), as such procedures would be unnecessary and contrary to the public interest. Similarly, the need to implement these measures in a timely fashion to prevent exceeding the 2001 Atka mackerel critical habitat limit in the Central Aleutian District of the BSAI constitutes good cause to find that the effective date of this action cannot be delayed for 30 days. Accordingly, under 5 U.S.C. 553 (d), a delay in the effective date is hereby waived.

This action is required by §§ 679.20 and 679.22 and is exempt from review under Executive Order 12866.

Authority: 16 U.S.C. 1801 et seq.

Dated: September 7, 2001.
Richard W. Surdi,
Acting Director, Office of Sustainable Fisheries, National Marine Fisheries Service.

[FR Doc. 01-22903 Filed 9-7-01; 3:17 pm]

BILLING CODE 3510-22-S